DEPARTMENT OF EDUCATION

Talent Search Program

AGENCY: Department of Education.

ACTION: Notice reopening competition and establishing a new application deadline date for fiscal year (FY) 2002.

SUMMARY: The Department of Education (we) announces the reopening of the competition for new awards under the Talent Search Program for FY 2002. We also establish a new deadline date for the transmittal of applications. We are taking these actions because recent disruptions in the U.S. Postal Service may have interfered with our receipt of many applications. The reopening is intended to help potential applicants compete fairly under this competition.

DATES: The new deadline date for transmitting applications is December 17, 2001. The previous date was October 19, 2001. The new deadline date for the transmittal of State process recommendations by State Single Points of Contact (SPOCs) and comments by other interested parties under Executive Order 12372 is February 15, 2002. The previous date was December 19, 2001.

ADDRESSES: The addresses and telephone numbers for obtaining applications for, or information about, this competition were in the original application notice published in the Federal Register on June 11, 2001 (66 FR 31338-31339).

If you use a telecommunications device for the deaf (TDD), you may call the TDD number, if any, listed in the individual application notice. If we have not listed a TDD number, you may call the Federal Information Relay Service (FIRS) at 1-800-877-8339.

If you want to transmit a recommendation or comment under Executive Order 12372, you can find the latest list and addresses of individual SPOCs on the Web site of the Office of Management and Budget at the following address: http://www.whitehouse.gov/omb/grants.

SUPPLEMENTARY INFORMATION: On June 11, 2001, we published in the Federal Register a notice inviting applications for new awards under this program for FY 2002 and establishing a deadline date for the transmittal of applications.

In the application package, which hundreds of potential applicants requested, we stated that if you send your application by mail or if you or your courier deliver it by hand, our Application Control Center will mail a Grant Application Receipt Acknowledgment to you.

We further stated that if you do not receive the notification of application receipt within 15 days from the date of mailing the application, you should call the U.S. Department of Education Application Control Center at (202) 708-9493.

In recent weeks numerous applicants have called to say that they did not get a notification that we had received their respective applications even though they had proof of having mailed the applications. Through a search of our records, we determined that we had not received those applications. In addition, we determined that we had received far fewer applications for new awards under this program than we had received in previous years and far fewer than we had expected for the FY 2002 competition.

We have concluded that many applications may be delayed because of the recent disruptions of normal mail service, particularly in the Washington, DC area. Because we do not know when delayed applications may be delivered, we have decided to reopen this competition to give all applicants a chance to transmit their applications to us. This reopening and new deadline date for transmittal of applications apply to the entire country, as well as to eligible Territories.

Please note that there are alternative methods of transmittal besides the U.S. Postal Service. These include commercial carriers and courier services, as well as hand delivery. If you use a commercial carrier, please make sure to get a dated shipping label, invoice, or receipt from the carrier. If you use one of these alternative means of transmittal, we will mail a Grant Application Receipt Acknowledgment to you.

Note: If you have already submitted an application by mail and have not received a notification of application receipt from us by now, we urge you to resubmit your application and to indicate on the application that this is a resubmission. You may also wish to consider an alternative means of transmittal. Otherwise, we may not receive your application in time to consider it.

Assistance for Individuals With Disabilities

If you are an individual with a disability, you may obtain a copy of this notice in an alternative format (e.g., Braille, large print, audiotape, or computer diskette) on request to the contact person listed under FOR FURTHER INFORMATION CONTACT in the application notice.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Dated: December 3, 2001.
Maureen A. McLaughlin,
Deputy Assistant Secretary for Policy, Planning, and Innovation, Office of Postsecondary Education.

[FR Doc. 01-30356 Filed 12-6-01; 8:45 am]

BILLING CODE 4000-01-U